DEPARTMENT OF HOMELAND SECURITY

Coast Guard

[Docket No. USCG-2015-0390]

National Offshore Safety Advisory Committee; Vacancies

AGENCY: Coast Guard, DHS.

ACTION: Request for applications.

SUMMARY: The Coast Guard seeks applications for membership on the National Offshore Safety Advisory Committee. The National Offshore Safety Advisory Committee provides advice and recommendations to the Department of Homeland Security on matters relating to activities directly involved with or in support of the exploration of offshore mineral and energy resources insofar as they relate to matters within Coast Guard jurisdiction.

DATES: Completed applications should reach the Coast Guard on or before July 10, 2015.

ADDRESSES: Applicants should send a cover letter expressing interest in an appointment to the National Offshore Safety Advisory Committee that also identifies which membership category the applicant is applying under, along with a resume detailing the applicant's experience via one of the following methods:

• By Email: Scott.E.Hartley@uscg.mil.

• By Fax: (202) 372-8382.

• By Mail: Mr. Scott E. Hartley, Alternate Designated Federal Officer of the National Offshore Safety Advisory Committee, Commandant, (CG-OES-2)/NOSAC U.S. Coast Guard, 2703 Martin Luther King Jr. Avenue SE., STOP 7509, Washington, DC 20593-7509.

FOR FURTHER INFORMATION CONTACT: Mr. Scott E. Hartley, Alternate Designated Federal Officer of the National Offshore Safety Advisory Committee, Commandant, (CG-OES-2)/NOSAC U.S. Coast Guard, 2703 Martin Luther King Jr. Avenue SE., STOP 7509, Washington, DC 20593-7509; email Scott.E.Hartley@uscg.mil; telephone (202) 372-1437; fax (202) 372-8382.

SUPPLEMENTARY INFORMATION: The National Offshore Safety Advisory Committee name is a Federal advisory committee established in accordance with the provisions of the Federal Advisory Committee Act, (5 U.S.C. Appendix) to advise the Secretary of Department of Homeland Security on matters relating to activities directly involved with or in support of the exploration of offshore mineral and energy resources insofar as they relate to matters within Coast Guard jurisdiction.

The Committee expects to meet twice a year: April in New Orleans, LA, and November in Houston, TX. Each National Offshore Safety Advisory Committee member serves a term of office up to three (3) years. Members may be considered to serve a maximum of two consecutive terms. All members serve at their own expense and receive no salary or reimbursement of travel expenses, or other compensation from the Federal Government.

We will consider applications for the four positions listed below that will become vacant on January 31, 2016:

(a) One member representing companies, organizations, enterprises, or similar entities engaged in offshore operations, who should have recent practical experience on vessels or units involved in the offshore industry;

(b) One member representing companies, organizations, enterprises, or similar entities providing subsea engineering, construction or remotely operated vehicle support to the offshore industry;

(c) One member representing companies, organizations, enterprises, or similar entities providing diving services to the offshore industry; and

(d) One member of the general public.

To be eligible, applicants for positions (a), (b) or (c) should be employed by companies, organizations, enterprises or similar entities, have expertise, knowledge and experience regarding the technology, equipment and techniques that are used or are being developed for use in the exploration for, and the recovery of, offshore mineral resources.

The General Public Member, position (d), will be appointed and serve as a Special Government Employee as defined in section 202(a) of Title 18 United States Code. As a candidate for appointment as a Special Government Employee, applicants are required to complete Confidential Financial Disclosure Reports (OGE Form 450). Coast Guard may not release the reports or the information in them to the public except under an order issued by a Federal court or as otherwise provided under the Privacy Act (5 U.S.C. 552a). Applicants can obtain this form by going to the Web site of the Office of Government Ethics (www.oge.gov), or by contacting the individual listed above in FOR FURTHER INFORMATION CONTACT. Applications for the General Public Member which are not accompanied by a completed OGE Form 450 will not be considered.

Registered lobbyists are not eligible to serve on Federal advisory committees in an individual capacity. See “Revised Guidance on Appointment of Lobbyist to Federal Advisory Committees, Boards and Commissions” (79 FR 47482, August 13, 2014). The position we list for a member from the General Public would be someone appointed in their individual capacity and would be designated a Special Government Employee as defined in 202 (a) of Title 18, United States Code. Registered lobbyists are lobbyists required to comply with provisions contained in the Lobbying Disclosure Act of 1995 (Pub. L. 104-65; as amended by Title II of Pub. L. 110-81).

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. Scott Hartley, Alternate Designated Federal Officer of the National Offshore Safety Advisory Committee by email or mail according to instructions in the ADDRESSES section by the deadline in the DATES section of this notice.

Note, that during the vetting process, applicants may be asked to provide their date of birth and social security number. All email submittals will receive email receipt confirmation.

To visit our online docket, go to http://www.regulations.gov enter the docket number for this notice (USCG-2015-xxxx) in the Search box, and click “Search”. Please do not post your resume, or Confidential Financial Disclosure Report (OGE 450 Form) if applying for member of the general public position, on this site.

Dated: May 5, 2015.
J.G. Lantz,
Director of Commercial Regulations and Standards, U.S. Coast Guard.

[FR Doc. 2015-11296 Filed 5-8-15; 8:45 am]

BILLING CODE 9110-04-P